ENVIRONMENTAL PROTECTION AGENCY

[ER-FRL-9056-4]

Environmental Impact Statements; Notice of Availability

Responsible Agency: Office of Federal Activities, General Information 202-564-5632 or https://www.epa.gov/nepa.

Weekly receipt of Environmental Impact Statements (EIS) Filed April 26, 2021 10 a.m. EST Through May 3, 2021 10 a.m. EST Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210047, Draft Supplement, FHWA, KS, South Lawrence Trafficway, Comment Period Ends: 06/21/2021, Contact: Javier Ahumada 785-273-2649

EIS No. 20210048, Draft, NOAA, HI, Pacific Islands Aquaculture Management Program, Comment Period Ends: 08/05/2021, Contact: Tori Spence 808-725-5186

EIS No. 20210049, Final, MDA, AK, Long Range Discrimination Radar Operations, Clear Air Force Station, Alaska, Review Period Ends: 06/07/2021, Contact: Ryan Keith 256-450-1599

Dated: May 3, 2021.
Cindy S. Barger,
Director, NEPA Compliance Division, Office of Federal Activities.

[FR Doc. 2021-09688 Filed 5-6-21; 8:45 am]

BILLING CODE 6560-50-P